FEDERAL ELECTION COMMISSION

Sunshine Act Notices

Previously Scheduled Open Meetings: Tuesday, June 6, 2006, and Monday, June 12, 2006. These meetings were cancelled.

Date and Time: Tuesday, June 13, 2006 at 10 a.m.

Place: 999 E Street, NW., Washington, DC.

Status: This meeting will be closed to the public.

Items to be Discussed:

Compliance matters pursuant to 2 U.S.C. 437g.

Audits conducted pursuant to 2 U.S.C. 437g, 438g, 438(b), and Title 26, U.S.C.

Matters concerning participation in civil actions or proceedings or arbitration.

Internal personnel rules and procedures or matters affecting a particular employee.

* * * * *

PERSON TO CONTACT FOR INFORMATION: Mr. Robert Biersack, Press Officer. Telephone: (202) 694-1220.

Mary W. Dove,
Secretary of the Commission.

[FR Doc. 06-5274 Filed 6-6-06; 2:30 pm]

BILLING CODE 6715-01-M